DEPARTMENT OF STATE

[Public Notice 6222]

Determination Under Section 612 of the Department of State, Foreign Operations, and Related Programs Appropriations Act, 2008, Relating to Assistance to the Democratic Republic of Congo, Liberia, and Somalia

Pursuant to section 612 of the Department of State, Foreign Operations, and Related Programs Appropriations Act, 2008 (Div. J, Pub. L. 110-161) (the Act), Executive Order 12163, as amended by Executive Order 13346, and Delegation of Authority 245, I hereby determine that assistance to the Democratic Republic of Congo, Liberia, and Somalia is in the national interest of the United States and thereby waive, with respect to these countries, the application of section 612 of the Act.

This determination shall be reported to Congress and published in the Federal Register.

Dated: March 28, 2008.
John D. Negroponte,
Deputy Secretary of State, Department of State.

[FR Doc. E8-10656 Filed 5-12-08; 8:45 am]

BILLING CODE 4710-26-P